FEDERAL ELECTION COMMISSION

[Notice 2000 2]

Schedule of Matching Fund Submission Dates and Submission Dates for Statements of Net Outstanding Campaign Obligations (NOCO) for 2000 Presidential Candidates Post Date of Ineligibility

AGENCY: Federal Election Commission.

ACTION: Notice of matching fund submission dates and submission dates for statements of net outstanding campaign obligations for 2000 Presidential candidates post Date of Ineligibility.

SUMMARY: The Federal Election Commission is publishing matching fund submission dates for publicly funded 2000 Presidential primary candidates. Eligible candidates may present one submission and/or resubmission per month on the designated date. Payments will be made by the U. S. Treasury to the candidate generally within 48 hours after certification by the Commission. Also being published are submission dates for statements of net outstanding campaign obligations (“NOCO statements”) which are required to be submitted by publicly funded 2000 Presidential primary candidates following their date of ineligibility (“DOI”). Candidates are required to submit a NOCO statement prior to each regularly scheduled date on which they receive federal matching funds, on dates to be determined by the Commission.

FOR FURTHER INFORMATION CONTACT: Mr. Raymond Lisi, Audit Division, 999 E Street, NW, Washington, DC 20463, (202) 694-1200 or (800) 424-9530.

SUPPLEMENTARY INFORMATION:

Matching Fund Submissions

Presidential candidates eligible to receive federal matching funds may present submissions and/or resubmissions to the Federal Election Commission once a month on designated submission dates. The Commission will review the submissions/resubmissions and forward a certification for payment to the Secretary of Treasury. Since no payments can be made during 1999, all submissions received during 1999 will be certified in late December 1999, for payment on January 3, 2000. 11 CFR 9036.2(c). During 2000 and 2001, certifications and payments will be made on a monthly basis. The last date a candidate may make a submission is March 5, 2001.

The submission dates specified in the following list pertain to non-threshold matching fund submissions and resubmissions after the candidate establishes eligibility. The threshold submission on which that eligibility will be determined may be filed at any time and will be processed within fifteen business days unless review of the threshold submission determines that eligibility has not been met.

NOCO Submissions

Under 11 CFR 9034.5, a candidate who receives federal matching funds must submit a NOCO statement to the Commission within 15 calendar days after the candidate's date of ineligibility, as determined under 11 CFR 9033.5. The candidate's net outstanding campaign obligations is equal to the difference between the total of all outstanding obligations for qualified campaign expenses plus estimated necessary winding down costs less cash on hand, the fair market value of capital assets, and accounts receivable. 11 CFR 9034.5(a). Candidates will be notified of their DOI by the Commission.

Candidates who have net outstanding campaign obligations post-DOI may continue to submit matching payment requests as long as the candidate certifies that the remaining net outstanding campaign obligations equal or exceed the amount submitted for matching. 11 CFR 9034.5(f)(1). If the candidate so certifies, the Commission will process the request and certify the appropriate amount of matching funds.

Candidates must also file revised NOCO statements in connection with each matching fund request submitted after the candidate's DOI. These statements are due just before the next regularly scheduled payment date, on a date to be determined by the Commission. They must reflect the financial status of the campaign as of the close of business three business days before the due date of the statement and must also contain a brief explanation of each change in the committee's assets and obligations from the most recent NOCO statement. 11 CFR 9034.5(f)(2).

The Commission will review the revised NOCO statement and adjust the committee's certification to reflect any change in the committee's financial position that occurs after submission of the matching payment request and the date of the revised NOCO statement.

The following schedule includes both matching fund submission dates and submission dates for revised NOCO statements.

Schedule of Matching Fund Submission Dates and Submission Dates for Statements of Net Outstanding Campaign Obligations (NOCO) for 2000 Presidential Candidates
Submission dates | NOCO Submission Dates
01/03/00 | 01/21/00
02/01/00 | 02/21/00
03/01/00 | 03/23/00
04/03/00 | 04/21/00
05/01/00 | 05/23/00
06/01/00 | 06/23/00
07/03/00 | 07/21/00
08/01/00 | 08/23/00
09/01/00 | 09/22/99
10/02/00 | 10/24/00
11/01/00 | 11/21/00
12/01/00 | 12/21/00
01/02/01 | 01/23/01
02/01/01 | 02/20/01
03/05/01 | 03/23/01

Dated: January 14, 2000.
Darryl R. Wold,
Chairman, Federal Election Commission.

[FR Doc. 00-1371 Filed 1-19-00; 8:45 am]

BILLIING CODE 6715-01-P